DEPARTMENT OF ENERGY

Federal Energy Regulatory Commission

Combined Notice of Filings #1

Take notice that the Commission received the following exempt wholesale generator filings:

Docket Numbers: EG20-184-000.

Applicants: Hardin Wind LLC.

Description: Notice of Self-Certification of Exempt Wholesale Generator Status of Hardin Wind LLC.

Filed Date: 6/11/20.

Accession Number: 20200611-5107.

Comments Due: 5 p.m. ET 7/2/20.

Docket Numbers: EG20-185-000.

Applicants: Altavista Solar, LLC.

Description: Notice of Self-Certification of Exempt Wholesale Generator Status of Altavista Solar, LLC.

Filed Date: 6/12/20.

Accession Number: 20200612-5089.

Comments Due: 5 p.m. ET 7/6/20.

Take notice that the Commission received the following electric rate filings:

Docket Numbers: ER13-2387-007; ER10-1333-014; ER15-190-013; ER18-1343-006.

Applicants: Duke Energy Florida, LLC.

Description: Notice of Change in Status of the Duke MBR Sellers.

Filed Date: 6/12/20.

Accession Number: 20200612-5055.

Comments Due: 5 p.m. ET 7/6/20.

Docket Numbers: ER20-539-001.

Applicants: East Fork Wind Project, LLC.

Description: Supplement to May 11, 2020 Notice of Change in Status of East Fork Wind Project, LLC.

Filed Date: 6/11/20.

Accession Number: 20200611-5090.

Comments Due: 5 p.m. ET 7/2/20.

Docket Numbers: ER20-1933-001.

Applicants: PJM Interconnection, L.L.C.

Description: Tariff Amendment: Second Revised ISA, SA No. 4608; Queue No. AE2-155 Supplement to Filing to be effective 4/30/2020.

Filed Date: 6/11/20.

Accession Number: 20200611-5113.

Comments Due: 5 p.m. ET 7/2/20.

Docket Numbers: ER20-2033-000.

Applicants: PJM Interconnection, L.L.C.

Description: § 205(d) Rate Filing: Original ISA, SA No. 5662; Queue No. NQ168 to be effective 5/16/2020.

Filed Date: 6/11/20.

Accession Number: 20200611-5106.

Comments Due: 5 p.m. ET 7/2/20.

Docket Numbers: ER20-2034-000.

Applicants: Midcontinent Independent System Operator, Inc.

Description: § 205(d) Rate Filing: 2020-06-12_SA 3377 METC-Assembly Solar 1st Rev GIA (J796) to be effective 5/29/2020.

Filed Date: 6/12/20.

Accession Number: 20200612-5005.

Comments Due: 5 p.m. ET 7/6/20.

Docket Numbers: ER20-2035-000.

Applicants: Southwest Power Pool, Inc.

Description: § 205(d) Rate Filing: 2825R7 KMEA and Evergy Kansas Central Meter Agent Agreement to be effective 6/1/2020.

Filed Date: 6/12/20.

Accession Number: 20200612-5007.

Comments Due: 5 p.m. ET 7/6/20.

Docket Numbers: ER20-2036-000.

Applicants: Midcontinent Independent System Operator, Inc.

Description: § 205(d) Rate Filing: 2020-06-12_SA 3502_METC-Orion Renewable Resources GIA (J832) to be effective 6/1/2020.

Filed Date: 6/12/20.

Accession Number: 20200612-5009.

Comments Due: 5 p.m. ET 7/6/20.

Docket Numbers: ER20-2037-000.

Applicants: Southwest Power Pool, Inc.

Description: § 205(d) Rate Filing: 3669 Evergy Kansas Central & City Utilities Meter Agent Agr to be effective 6/1/2020.

Filed Date: 6/12/20.

Accession Number: 20200612-5016.

Comments Due: 5 p.m. ET 7/6/20.

Docket Numbers: ER20-2038-000.

Applicants: ITC Midwest LLC.

Description: § 205(d) Rate Filing: Filing of Dairyland MVP5 POA and CMA to be effective 8/12/2020.

Filed Date: 6/12/20.

Accession Number: 20200612-5051.

Comments Due: 5 p.m. ET 7/6/20.

Docket Numbers: ER20-2039-000.

Applicants: GridLiance High Plains LLC.

Description: Compliance filing: GHP ITA Compliance Filing to be effective N/A.

Filed Date: 6/12/20.

Accession Number: 20200612-5085.

Comments Due: 5 p.m. ET 7/6/20.

Docket Numbers: ER20-2040-000.

Applicants: Southwest Power Pool, Inc.

Description: Compliance filing: Prairie Wind Transmission, LLC Order No. 864 Compliance Filing to be effective 1/27/2020.

Filed Date: 6/12/20.

Accession Number: 20200612-5092.

Comments Due: 5 p.m. ET 7/6/20.

Docket Numbers: ER20-2041-000.

Applicants: Southwest Power Pool, Inc.

Description: Compliance filing: Kansas City Power & Light Company Order No. 864 Compliance Filing to be effective 1/27/2020.

Filed Date: 6/12/20.

Accession Number: 20200612-5101.

Comments Due: 5 p.m. ET 7/6/20.

Docket Numbers: ER20-2042-000.

Applicants: Southwest Power Pool, Inc.

Description: Compliance filing: KCP&L-GMO Order No. 864 Compliance Filing to be effective 1/27/2020.

Filed Date: 6/12/20.

Accession Number: 20200612-5100.

Comments Due: 5 p.m. ET 7/6/20.

Docket Numbers: ER20-2043-000.

Applicants: GridLiance High Plains LLC.

Description: Compliance filing: Gridliance HPs WDS Oder No. 864 Compliance Filing to be effective 1/27/2020.

Filed Date: 6/12/20.

Accession Number: 20200612-5104.

Comments Due: 5 p.m. ET 7/6/20.

Docket Numbers: ER20-2044-000.

Applicants: Southwest Power Pool, Inc.

Description: Compliance filing: Westar Energy, Inc. Order No. 864 Compliance Filing to be effective 1/27/2020.

Filed Date: 6/12/20.

Accession Number: 20200612-5106.

Comments Due: 5 p.m. ET 7/6/20.

Docket Numbers: ER20-2045-000.

Applicants: GridLiance High Plains LLC.

Description: Compliance filing: Gridliance HPs OATT Order No 864 Compliance Filing to be effective 1/27/2020.

Filed Date: 6/12/20.

Accession Number: 20200612-5123.

Comments Due: 5 p.m. ET 7/6/20.

Docket Numbers: ER20-2046-000.

Applicants: American Transmission Systems, Incorporated, PJM Interconnection, L.L.C.

Description: § 205(d) Rate Filing: Amendments to Attachment M-3 to be effective 8/11/2020.

Filed Date: 6/12/20.

Accession Number: 20200612-5124.

Comments Due: 5 p.m. ET 7/6/20.

Docket Numbers: ER20-2047-000.

Applicants: Ormond Beach Power, LLC.

Description: Baseline eTariff Filing: Application for Market-Based Rate Authorization to be effective 12/31/9998.

Filed Date: 6/12/20.

Accession Number: 20200612-5141.

Comments Due: 5 p.m. ET 7/6/20.

Docket Numbers: ER20-2048-000.

Applicants: Ellwood Power, LLC.

Description: Baseline eTariff Filing: Application for Market-Based Rate Authorization to be effective 12/31/9998.

Filed Date: 6/12/20.

Accession Number: 20200612-5142.

Comments Due: 5 p.m. ET 7/6/20.

Docket Numbers: ER20-2049-000.

Applicants: Cedar Springs Wind III, LLC.

Description: Baseline eTariff Filing: Cedar Springs Wind III, LLC Application for MBR Authority to be effective 8/12/2020.

Filed Date: 6/12/20.

Accession Number: 20200612-5160.

Comments Due: 5 p.m. ET 7/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2020.
Kimberly D. Bose,
Secretary.

[FR Doc. 2020-13150 Filed 6-17-20; 8:45 am]

BILLING CODE 6717-01-P